DEPARTMENT OF LABOR

Employment and Training Administration

[TA-W-73,900A]

First American Title Insurance Company, Including Workers Whose Wages Were Reported Under National Default Title Services, Including On-Site Leased Workers From Workway Professional Staffing and Remedy/Select, Waterloo, IA; Amended Certification Regarding Eligibility To Apply for Worker Adjustment Assistance

In accordance with Section 223 of the Trade Act of 1974, as amended (“Act”), 19 U.S.C. 2273, the Department of Labor issued a Certification of Eligibility to Apply for Worker Adjustment Assistance on November 12, 2010, applicable to workers of First American Title Insurance Company, including workers whose wages were reported under National Default Title Services, including on-site leased workers from, Remedy/Select, Waterloo, Iowa. The workers supplied administrative, document preparation, recording, and mail processing services. The notice was published in the Federal Register on November 23, 2010 (75 FR 71460).

At the request of the State agency, the Department reviewed the certification for workers of the subject firm. The company reports that workers leased from Workway Professional Staffing were employed on-site at the Waterloo, Iowa location of First American Title Insurance Company, including workers whose wages were reported under National Default Title Services. The Department has determined that these workers were sufficiently under the control of National Default Title Service to be considered leased workers.

Based on these findings, the Department is amending this certification to include workers leased from Workway Professional Staffing working on-site at the Waterloo, Iowa location of First American Title Insurance Company, including workers whose wages were reported under National Default Title Services.

The amended notice applicable to TA-W-73,900A is hereby issued as follows:

All workers of First American Title Insurance Company including workers whose wages were reported under National Default Title Services working on-site at GMAC Mortgage LLC, including on-site leased workers from Workway Professional Staffing Santa Ana, California (TA-W-73,900) and workers of First American Title Insurance Company including workers whose wages were reported under National Default Title Services working on-site at GMAC Mortgage LLC, including on-site leased workers from Workway Professional Staffing and Remedy/Select, Waterloo, Iowa (TA-W-73,900A), who became totally or partially separated from employment on or after April 9, 2009, through two years from the date of certification, and all workers in the group threatened with total or partial separation from employment on the date of certification through two years from the date of certification, are eligible to apply for adjustment assistance under Chapter 2 of Title II of the Trade Act of 1974, as amended.

Signed in Washington, DC, this 4th day of February, 2011.
Del Min Amy Chen,
Certifying Officer, Office of Trade Adjustment Assistance.

[FR Doc. 2011-4097 Filed 2-23-11; 8:45 am]

BILLING CODE 4510-FN-P